COMMODITY FUTURES TRADING COMMISSION

Market Risk Advisory Committee

AGENCY: Commodity Futures Trading Commission.

ACTION: Notice of meeting.

SUMMARY: The Commodity Futures Trading Commission (CFTC) announces that on December 11, 2023, from 9:30 a.m. to 12:30 p.m. (eastern standard time), the Market Risk Advisory Committee (MRAC or Committee) will hold an in-person public meeting at the CFTC's Washington, DC headquarters, with options for the public to attend virtually. At this meeting, the MRAC will discuss current topics and developments in the areas of central counterparty risk and governance, market structure, climate-related risk, and innovative and emerging technologies affecting the derivatives and related financial markets.

DATES: The meeting will be held on December 11, 2023, from 9:30 a.m. to 12:30 p.m. (eastern standard time). Please note that the meeting may end early if the MRAC has completed its business. Members of the public who wish to submit written statements in connection with the meeting should submit them by December 18, 2023.

ADDRESSES: The meeting will take place in the Conference Center at the CFTC's headquarters, Three Lafayette Centre, 1155 21st Street NW, Washington, DC 20581. You may submit public comments, identified by “Market Risk Advisory Committee,” through the CFTC website at https://comments.cftc.gov. Follow the instructions for submitting comments through the Comments Online process on the website. If you are unable to submit comments online, contact Tamika Bent, Designated Federal Officer, via the contact information listed below to discuss alternate means of submitting your comments. Any statements submitted in connection with the committee meeting will be made available to the public, including publication on the CFTC website, https://www.cftc.gov.

FOR FURTHER INFORMATION CONTACT: Tamika Bent, MRAC Designated Federal Officer, Commodity Futures Trading Commission, Three Lafayette Centre, 1155 21st Street NW, Washington, DC 20581; (646) 746-3930 or tbent@cftc.gov.

SUPPLEMENTARY INFORMATION: The meeting will be open to the public with seating on a first-come, first-served basis. Members of the public may also listen to the meeting by telephone by calling a domestic or international toll or toll-free number to connect to a live, listen-only audio feed. Call-in participants should be prepared to provide their first name, last name, and affiliation.

Domestic Toll-Free Number: 833 435 1820 U.S., 833 568 8864 U.S.

Domestic Toll Number: +1 669 254 5252 U.S. (San Jose), +1 646 828 7666 U.S. (New York), +1 646 964 1167 U.S. (U.S. Spanish Line), +1 415 449 4000 U.S. (U.S. Spanish Line), +1 551 285 1373 U.S. (New Jersey), +1 669 216 1590 U.S. (San Jose)

International numbers available: https://cftc-gov.zoomgov.com/u/acCnfESxJU

International Toll- and Toll-Free Numbers: Will be posted on the CFTC's website, https://www.cftc.gov, on the page for the meeting, under Related Links

Call-In/Webinar ID: 161 828 9052

Pass Code/Pin Code: 086794

Members of the public may also view a live webcast of the meeting via the http://www.cftc.gov website. The meeting agenda may change to accommodate other Committee priorities. For agenda updates, please visit: https://www.cftc.gov/About/AdvisoryCommittees/MRAC.

After the meeting, a transcript of the meeting will be published through a link on the CFTC's website, https://www.cftc.gov. Persons requiring special accommodations to attend the meeting because of a disability should notify the contact person above.

(Authority: 5 U.S.C. 1009(a)(2).)

Dated: November 2, 2023.
Robert Sidman,
Deputy Secretary of the Commission.

[FR Doc. 2023-24565 Filed 11-6-23; 8:45 am]

BILLING CODE 6351-01-P